DEPARTMENT OF COMMERCE

National Oceanic and Atmospheric Administration

RIN 0648-XG240

South Atlantic Fishery Management Council; Public Meeting

AGENCY: National Marine Fisheries Service (NMFS), National Oceanic and Atmospheric Administration (NOAA), Commerce.

ACTION: Meeting of the South Atlantic Fishery Management Council.

SUMMARY: The South Atlantic Fishery Management Council (Council) will hold meetings of the following: Personnel Committee (Closed Session); Scientific and Statistical Committee (SSC) Selection Committee (Closed Session); Southeast Data, Assessment and Review (SEDAR) Committee (Partially Closed Session); Citizen Science Committee (Partially Closed Session); Spiny Lobster Committee; Law Enforcement Commitment; Habitat Protection and Ecosystem-Based Management Committee; Snapper Grouper Committee; Joint Habitat Ecosystem, Shrimp, and Golden Crab Committees; Highly Migratory Species (HMS) Committee; Mackerel Cobia Committee; Standard Operating, Policy, and Procedure (SOPPs) Committee; and the Executive Finance Committee. The Council will meet as a Committee of the Whole to address the Acceptable Biological Catch (ABC) Control Rule and have a meeting of the full Council.

The Council will also hold an informal Question and Answer Session, a formal public comment session, and take action as necessary. A For-Hire Electronic Reporting Outreach Training Session will also be held.

DATES: The Council meeting will be held from 1:30 p.m. on Sunday, June 10, 2018 until 1 p.m. on Friday, June 15, 2018.

ADDRESSES:

Meeting address: The meeting will be held at the Bahia Mar Doubletree by Hilton, 801 Seabreeze Boulevard, Ft. Lauderdale, FL 33316; phone: (855) 610-8733; fax: (954) 627-6359.

Council address: South Atlantic Fishery Management Council, 4055 Faber Place Drive, Suite 201, N. Charleston, SC 29405.

FOR FURTHER INFORMATION CONTACT: Kim Iverson, Public Information Officer, SAFMC; phone: (843) 571-4366 or toll free: (866) SAFMC-10; fax: (843) 769-4520; email: kim.iverson@safmc.net. Meeting information is available from the Council's website at: http://safmc.net/meetings/council-meetings/.

SUPPLEMENTARY INFORMATION: Public comment: Written comments may be directed to Gregg Waugh, Executive Director, South Atlantic Fishery Management Council (see Council address) or electronically via the Council's website at http://safmc.net/safmc-meetings/council-meetings/. The public comment form is open for use when the briefing book is posted to the website on the Friday, two weeks prior to the Council meeting (5/25/18). Comments received by close of business the Monday before the meeting (6/4/18) will be compiled, posted to the website as part of the meeting materials, and included in the administrative record; please use the Council's online form available from the website. For written comments received after the Monday before the meeting (after 6/4/18), individuals submitting a comment must use the Council's online form available from the website. Comments will automatically be posted to the website and available for Council consideration. Comments received prior to noon on Thursday, June 14, 2018 will be a part of the meeting administrative record.

The items of discussion in the individual meeting agendas are as follows:

Personnel Committee (Closed Session), Sunday, June 10, 2018 From 1:30 p.m. Until 6 p.m. and Monday, June 11, 2018, 8 a.m. Until 11 a.m.

1. The Personnel Committee will meet in Closed Session to discuss personnel issues relative to budget and provide recommendations for Council consideration.

SSC Selection Committee (Closed Session), Monday, June 11, 2018, 11 a.m. Until 12 Noon

1. The Committee will review applications and provide recommendations for appointments.

SEDAR Committee (Partially Closed Session), Monday, June 11, 2018, 1 p.m. Until 2 p.m.

1. The Committee will review applications and provide recommendations for appointments (Closed Session).

2. The Committee will review Terms of Reference for cobia and yellowtail snapper stock assessments, receive SSC comments, and updates on assessment activities.

Citizen Science Committee (Partially Closed)—Monday, June 11, 2018, 2 p.m. until 3 p.m.

1. The Committee will review applicants for the Operations Committee and make recommendations for appointments (Closed Session).

2. The Committee will receive an update on program development, review draft Citizen Science research needs, and provide recommendations as appropriate.

3. The Committee will receive an update on the Citizen Science pilot project and provide recommendations as appropriate.

Law Enforcement Committee (Partially Closed), Monday, June 11, 2018, 3 p.m. Until 4 p.m.

1. The Committee will review nominations for Law Enforcement Officer of the Year and provide recommendations for Council consideration. (Closed Session).

2. The Committee will receive a report from the Law Enforcement Advisory Panel, discuss and provide recommendations as appropriate.

3. The Committee will receive a report on U.S. Coast Guard Law Enforcement priorities, discuss and provide recommendations for Council consideration.

Spiny Lobster Committee, Monday, June 11, 2018, 4 p.m. Until 5 p.m.

1. The Committee will receive an update on the status of catches versus annual catch limit (ACLs) and a report from the Spiny Lobster Advisory Panel.

2. The Committee will review draft Spiny Lobster Amendment 13 addressing bullynets and measures recommended by the Florida Fish and Wildlife Conservation Commission (FWC), select preferred alternatives, and provide recommendations for taking the draft amendment to public hearings.

Habitat and Ecosystem-Based Management Committee Meeting, Monday, June 11, 2018, 5 p.m. Until 6 p.m.

1. The Committee will receive a report from the Habitat Advisory Panel and provide guidance to staff as necessary.

2. The Committee will receive an update on habitat and ecosystem tools and model development, and review and approve actions on habitat as appropriate.

Snapper Grouper Committee, Tuesday, June 12, 2018, 8 a.m. Until 5 p.m., and Wednesday, June 13, 2018, 8 a.m. Until 4:30 p.m.

1. The Committee will receive updates from NOAA Fisheries on commercial and recreational catches versus quotas for species under ACLs and the status of amendments under formal Secretarial review.

2. The Committee will receive an update from NOAA Fisheries on the red snapper season for 2018, the status of the 2017 catches, and the length of the 2018 season, discuss and take action as necessary.

3. The Committee will discuss an extension of the interim rule for the annual catch limit for golden tilefish, discuss and consider requesting an extension from NOAA Fisheries.

4. The Committee will receive a report from the Snapper Grouper Advisory Panel and take action as necessary. The Committee will also receive a presentation on a case study examining bag limit and trip satisfaction in the for-hire sector specific to black sea bass.

5. The Committee will receive a report from the SSC including results of stock assessment reviews for black sea bass and vermilion snapper, Acceptable Biological Catch (ABC) recommendations for blueline tilefish north of Cape Hatteras, Red Snapper ABC Workgroup update, and golden tilefish ABC recommendations. The Committee will take action as necessary. The Committee will also receive an update on the Southeast Reef Fish Survey.

6. The Committee will review draft Snapper Grouper Amendment 46 addressing permitting and reporting measures for private recreational anglers, provide guidance to staff, and consider approval for public scoping. The Committee will also review draft Snapper Grouper Amendment 29 addressing best fishing practices and the use of powerheads for harvesting species in the snapper grouper complex, provide guidance to staff, and consider approval for public scoping.

7. The Committee will receive an overview of the Vision Blueprint Regulatory Amendment 26 addressing recreational management actions and alternatives as identified in the 2016-2020 Vision Blueprint for the Snapper Grouper Fishery Management Plan. The Committee will modify the document as necessary, select preferred alternatives, and approve all actions.

8. The Committee will receive an overview of Vision Blueprint Regulatory Amendment 27 addressing commercial management actions and alternatives, as identified in the 2016-2020 Vision Blueprint for the Snapper Grouper Fishery and a presentation on discard mortality of gray triggerfish. The Committee will modify the document as necessary, select preferred alternatives, and approve all actions.

9. The Committee will review a draft scoping document for Snapper Grouper Amendment 47 addressing options for a moratorium on federal for-hire permits, discuss and provide guidance to staff, and consider approval for public scoping.

10. The Committee will receive an overview of Regulatory Amendment 30 addressing a rebuilding plan for red grouper, review, provide guidance to staff, and consider approval for public scoping.

11. The Committee will receive an overview of draft Snapper Grouper Regulatory Amendment 28 addressing golden tilefish management, consider public comments, and consider approval for formal Secretarial review.

12. The Committee will receive an overview of draft Snapper Grouper Amendment 42 addressing sea turtle release gear, review scoping comments and modify/approve actions and alternatives to be analyzed. The Committee will also receive an overview of draft Regulatory Amendment 31 addressing management measures for yellowtail snapper and provide guidance to staff.

Informal Question and Answer Session, Tuesday, June 12, 2018, 5 p.m.

Formal Public Comment, Wednesday, June 13, 2018, 4:30 p.m.—Public comment will be accepted on items on the Council agenda including Snapper Grouper Amendment 28 (golden tilefish) and Coastal Migratory Pelagic (CMP) Amendment 31 (Atlantic cobia) that the Council is considering for final approval. The Council is also accepting public comment on Executive Order 13771 (2 for 1 regulations) to identify regulations that are (1) outdated, (2) unnecessary, or (3) ineffective. The Council Chair, based on the number of individuals wishing to comment, will determine the amount of time provided to each commenter.

ABC Control Rule—Committee of the Whole, Thursday, June 14, 2018, 8 a.m. Until 10 a.m.

1. The Committee of the Whole will receive an overview of the modified ABC Control Rule Amendment, receive SSC comments, discuss and develop recommendations and consider scoping alternatives.

2. The Committee of the Whole will receive an overview of Recreational Accountability Measures, discuss, and develop recommendations.

Joint Habitat and Ecosystem-Based Management, Shrimp, and Golden Crab Committee Meeting, Thursday, June 14, 2018, 10 a.m. Until 11 a.m.

1. The Committees will receive an overview of the joint Coral Amendment 10/Shrimp Amendment 11/Golden Crab Amendment 10 addressing access and transit provisions and options for Vessel Monitoring Systems (VMS) for the golden crab fishery. The Committees will also receive reports from the Coral AP, Shrimp AP, and Golden Crab AP before discussing the joint amendment, provide recommendations, and consider approving for public scoping.

Highly Migratory Species (HMS) Committee, Thursday, June 14, 2018, 11 a.m. Until 12 p.m.

1. The Committee will review options for incorporating Special Management Zones into regulations for the HMS bottom longline fishery and provide guidance to staff.

Mackerel Cobia Committee, Thursday, June 14, 2018, 1 p.m. Until 3 p.m.

1. The Committee will receive an update on commercial and recreational catches versus ACLs, a report from the Mackerel Cobia AP, and an update on landing and effort estimates for tournaments from the Marine Recreational Information Program (MRIP).

2. The Committee will review Coastal Migratory Pelagics Framework Amendment 6 addressing Atlantic king mackerel trip limits, confirm preferred alternatives, and consider approval for public hearings.

3. The Committee will review Coastal Migratory Pelagics Amendment 31 addressing proposed management measures for Atlantic cobia, receive a response from the Atlantic States Marine Fisheries Commission addressing management concerns, receive an update from the Cobia Stock Identification Workshop, review the document, and consider approving the amendment for formal Secretarial review.

SOPPs Committee, Thursday, June 14, 2018, 3 p.m. Until 4 p.m.

1. The Committee will receive an overview of changes proposed to the SOPPs and Council Handbook, discuss, and provide direction to staff as appropriate.

Executive/Finance Committee, Thursday, June 14, 2018, 4 p.m. Until 5:30 p.m.

1. The Committee will receive an overview of the current Magnuson-Stevens Reauthorization efforts, discuss, and provide guidance to staff.

2. The Committee will receive an overview of the draft Calendar Year 2018 budget, the Council's Follow Up document and priorities list, discuss, and provide guidance to staff.

3. The Committee will receive an overview of regulatory reform efforts, Atlantic Coast-Wide Group discussion, and the Council's consideration for an Aquaculture Fishery Management Plan, discuss, and provide guidance to staff. The Committee will also receive a report from the Council Coordination Committee's May 2018 meeting, discuss, and provide guidance to staff.

For Hire Electronic Reporting Outreach Training, Thursday, June 14, 2018, 6 p.m.

The Council will hold a workshop as part of a series of training sessions targeting charter vessel owners/operators.

Council Session: Friday, June 15, 2018, 8 a.m. Until 1 p.m. (Partially Closed Session if Needed)

The Full Council will begin with the Call to Order, adoption of the agenda, approval of minutes, announcements and introductions, and awards/recognition.

The Council will receive a Legal Briefing on Litigation from NOAA General Counsel (if needed) during Closed Session. The Council will receive staff reports including the Executive Director's Report, a presentation on the MyFishCount Recreational Reporting pilot project, and a report on the Economic Impacts of Fisheries for Council-managed Species.

Updates will be provided by NOAA Fisheries including a report on the status of commercial catches versus ACLs for species not covered during an earlier committee meeting, the status of Recreational and Commercial Quota Monitoring Tables on the NOAA Fisheries Southeast Regional Office website, data-related reports, a protected resources update, update on the status of the of the Commercial Electronic Logbook Program, and a presentation on the method used to determine dolphin pelagic longline landings by permit type. The Council will discuss and take action as necessary.

The Council will review any Exempted Fishing Permits received as necessary. The Council will receive Committee reports from the Snapper Grouper, Mackerel Cobia, Spiny Lobster, Law Enforcement, SSC Selection, ABC Control Rule Committee of the Whole, SEDAR, Habitat, Joint Habitat and Ecosystem-Based Management/Shrimp/Golden Crab, Citizen Science, Personnel, SOPPs, and Executive Finance Committees, and take action as appropriate.

The Council will receive agency and liaison reports; and discuss other business and upcoming meetings.

Documents regarding these issues are available from the Council office (see ADDRESSES).

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

These meetings are physically accessible to people with disabilities. Requests for auxiliary aids should be directed to the council office (see ADDRESSES) 5 days prior to the meeting.

Note: The times and sequence specified in this agenda are subject to change.

Authority: 16 U.S.C. 1801 et seq.

Dated: May 18, 2018.
Rey Israel Marquez,
Acting Deputy Director, Office of Sustainable Fisheries, National Marine Fisheries Service.

[FR Doc. 2018-11023 Filed 5-22-18; 8:45 am]

BILLING CODE 3510-22-P